DEPARTMENT OF HEALTH AND HUMAN SERVICES

Eleventh Meeting of the National Clinical Care Commission

AGENCY: Office on Women's Health, Office of the Assistant Secretary for Health, Office of the Secretary, Department of Health and Human Services.

ACTION: Notice.

SUMMARY: The National Clinical Care Commission (the Commission) will conduct its eleventh meeting virtually on May 19 and June 1, 2021. The Commission is charged to evaluate and make recommendations to the U.S. Department of Health and Human Services (HHS) Secretary and Congress regarding improvements to the coordination and leveraging of federal programs related to diabetes and its complications.

DATES: The two-day meeting will take place May 19 and June 1, 2021 from 1 p.m. to approximately 6 p.m. Eastern Time (ET).

ADDRESSES: The meeting will be held online via webinar. To register to attend the meeting, please visit the registration website at https://kauffmaninc.adobeconnect.com/ncccmeeting11/event/event_info.html.

FOR FURTHER INFORMATION CONTACT: Kara Elam, Ph.D., MPH, MS, Designated Federal Officer, National Clinical Care Commission, U.S. Department of Health and Human Services, Office on Women's Health, 200 Independence Ave. SW, 7th Floor, Washington, DC 20201, Phone: (240) 435-9438, Email: Kara.Elam@hhs.gov.

SUPPLEMENTARY INFORMATION: The National Clinical Care Commission Act (Pub. L. 115-80) requires the HHS Secretary to establish the National Clinical Care Commission. The Commission consists of representatives of specific federal agencies and non-federal individuals who represent diverse disciplines and views. The Commission will evaluate and make recommendations to the HHS Secretary and Congress regarding improvements to the coordination and leveraging of federal programs related to diabetes and its complications.

The eleventh meeting will be held virtually, and each subcommittee will present a summary of stakeholder calls and all draft recommendations. This will be followed by a discussion of the recommendations. The final meeting agenda will be available prior to the meeting at https://health.gov/our-work/health-care-quality/national-clinical-care-commission/meetings.

Public Participation at Meeting: The Commission invites public comment on issues related to the Commission's charge. There will be an opportunity for limited oral comments (each no more than 3 minutes in length) at this virtual meeting. Virtual attendees who plan to provide oral comments at the Commission meeting during a designated time must register prior to the meeting at https://kauffmaninc.adobeconnect.com/ncccmeeting11/event/event_info.html.

Written comments are welcome throughout the entire development process of the Commission's work and may be emailed to OHQ@hhs.gov. Written comments should not exceed three pages in length.

Individuals who need special assistance, such as sign language interpretation or other reasonable accommodations, should indicate the special accommodation when registering online or by notifying Jennifer Gillissen at jennifer.gillissen@kauffmaninc.com by May 10, 2021.

Authority: The National Clinical Care Commission is required under the National Clinical Care Commission Act (Pub. L. 115-80). The Commission is governed by provisions of the Federal Advisory Committee Act (FACA), Public Law 92-463, as amended (5 U.S.C., App.) which sets forth standards for the formation and use of federal advisory committees.

Dated: April 27, 2021.
Dorothy A. Fink,
Deputy Assistant Secretary for Women's Health.

[FR Doc. 2021-09277 Filed 5-3-21; 8:45 am]

BILLING CODE 4150-32-P